DEPARTMENT OF LABOR

Office of the Secretary

Submission for OMB Review: Comment Request

September 10, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Occupational Safety and Health Administration (OSHA), Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Onsite Consultation Agreements (29 CFR part 1908).

OMB Control Number: 1218-0110.

Form Number: OSHA Form 33.

Affected Public: State, Local, or Tribal Governments and Private Sector.

Estimated Number of Respondents: 27,854.

Estimated Total Annual Burden Hours: 231,207.

Estimated Total Annual Costs Burden: $0.

Description: OSHA's On-Site Consultation Service offers free and confidential advice to small and medium-sized businesses in all states across the country, with priority given to high-hazard worksites. Consultation services are completely separate from enforcement and do not result in penalties or citations. The Consultation Program regulations at 29 CFR part 1908 specify services to be provided, and practices and procedures to be followed by the State On-site Consultation Programs. Information collection requirements set forth in the On-site Consultation Program regulations are in two categories: State Responsibilities and Employer Responsibilities. For additional information, see related 60-day preclearance notice published in the Federal Register at 73 FR 36905 on June 30, 2008. PRA documentation prepared in association with the preclearance notice is available on http://www.regulations.gov under docket number OSHA 2008-0019.

Darrin A. King,
Departmental Clearance Officer.

[FR Doc. E8-21645 Filed 9-16-08; 8:45 am]

BILLING CODE 4510-26-P